DEPARTMENT OF THE INTERIOR

Bureau of Land Management

[LLIDT000000.L11200000.DD0000.241A.00]

Notice of Public Meeting, Twin Falls District Resource Advisory Council, Idaho

AGENCY: Bureau of Land Management, Interior.

ACTION: Notice of public meeting.

SUMMARY: In accordance with the Federal Land Policy and Management Act (FLPMA), the Federal Advisory Committee Act of 1972 (FACA), and the Federal Lands Recreation Enhancement Act of 2004 (FLREA), the U.S. Department of the Interior, Bureau of Land Management (BLM) Twin Falls District Resource Advisory Council (RAC) will attend a tour as indicated below.

DATES: September 16, 2009. The Twin Falls District RAC meeting will begin at 9 a.m. (MST) and end no later than 4 p.m. at the Ameritel Inn in Twin Falls, Idaho, located at 539 Poleline Road. The public comment period for the RAC meeting will take place 9:15 a.m. to 9:45 a.m.

FOR FURTHER INFORMATION CONTACT: Heather Tiel-Nelson, Twin Falls District, Idaho, 2536 Kimberly Road, Twin Falls, Idaho 83301, (208) 736-2352.

SUPPLEMENTARY INFORMATION: The 15-member RAC advises the Secretary of the Interior, through the Bureau of Land Management, on a variety of planning and management issues associated with public land management in Idaho. During this meeting, the Twin Falls District RAC members will discuss joint Resource Advisory Council meetings, the fire/fuels team report, and energy projects within the Twin Falls District. Additional topics may be added and will be included in local media announcements. More information is available at http://www.blm.gov/id/st/en/res/resource_advisory.3.html.

RAC meetings are open to the public. For further information about the meeting, please contact Heather Tiel-Nelson, Public Affairs Specialist for the Twin Falls District, BLM at (208) 736-2352

Dated: August 4, 2009.
Jenifer Arnold,
District Manager (Acting).

[FR Doc. E9-19176 Filed 8-10-09; 8:45 am]

BILLING CODE 4310-GG-P